DEPARTMENT OF AGRICULTURE

Food and Nutrition Service

Agency Information Collection Activities: Best Practices in Disaster Supplemental Nutrition Assistance Program (D-SNAP) Operations and Planning

AGENCY: Food and Nutrition Service (FNS), USDA.

ACTION: Notice.

SUMMARY: In accordance with the Paperwork Reduction Act of 1995, this notice invites the general public and other public agencies to comment on this proposed information collection for the Best Practices in Disaster SNAP Operations and Planning study. This is a new information collection request. This study informs the U.S. Department of Agriculture's (USDA) Food and Nutrition Service (FNS) about best practices in planning for and implementing D-SNAP.

DATES: Written comments must be received on or before September 14, 2020.

ADDRESSES: Comments may be sent to Eric Williams, Food and Nutrition Service, U.S. Department of Agriculture, 1320 Braddock Place, Alexandria, VA 22314. Comments may also be submitted via email at eric.williams@usda.gov. Comments will also be accepted through the Federal eRulemaking Portal. Go to http://www.regulations.gov, and follow the online instructions for submitting comments electronically.

All written comments will be open for public inspection at the office of FNS during regular business hours (8:30 a.m. to 5:00 p.m. Monday through Friday) at 1320 Braddock Place, Alexandria, VA 22314.

All responses to this notice will be summarized and included in the request for Office of Management and Budget approval. All comments will be a matter of public record.

FOR FURTHER INFORMATION CONTACT: Requests for additional information or copies of this information collection should be directed to Eric Williams at (703) 305-2640.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Best Practices in Disaster Supplemental Nutrition Assistance Program (D-SNAP) Operations and Planning.

Form Number: Not Applicable.

OMB Number: 0584-NEW.

Expiration Date: Not Yet Determined.

Type of Request: New Information Collection Request.

Abstract: Section 17 [7 U.S.C. 2026] (a)(1) of the Food and Nutrition Act of 2008, as amended, provides general legislative authority for the planned data collection. It authorizes the Secretary of Agriculture to enter into contracts with private institutions to undertake research that will help to improve the administration and effectiveness of the Supplemental Nutrition Assistance Program (SNAP).

FNS is conducting this study to identify and document best practices in D-SNAP planning and operations from across the country and for a variety of disaster types. The project will give FNS a better understanding of what works when States implement D-SNAP to provide better direction to States when developing plans and implementing the program. FNS has identified five objectives for this study:

1. Assess the implementation and operation of D-SNAP for selected disaster(s) in each study State.

2. Describe the characteristics and economic circumstances of the D-SNAP households for the selected disaster(s).

3. Document each State's approach to protecting program integrity while operating D-SNAP for the selected disaster(s).

4. Determine best practices for developing annual disaster plans to address a variety of disaster types.

5. Determine best practices for implementing and operating D-SNAP for a variety of disaster types.

The study will gather data through extant administrative SNAP caseload data (already approved under OMB Control Number: 0584-0064; Expiration Date: 07/31/2020; and under OMB Control Number: 0584-0037; Expiration Date: 02/28/2021), document review, and site visits to five States. The study will focus on 10 recent county or local government administered D-SNAPs across the 5 study States. Each site visit will include interviews with staff at (1) the State SNAP agency, (2) the county SNAP office (if SNAP is county-administered), (3) one local SNAP office near the D-SNAP site, and (4) relevant stakeholders that supported the D-SNAP (e.g., community-based organizations, SNAP retailers). The study team will also seek to interview any former State staff who were closely involved with D-SNAP planning and operations for the relevant disasters. These data will provide information on D-SNAP planning, operations, challenges, best practices, and lessons learned. SNAP administrative caseload data about SNAP participants will be used to examine the characteristics and economic circumstances of D-SNAP households and estimate the economic impact in the affected areas. In some cases, State SNAP offices staff may be asked to provide documentation related to the D-SNAP(s), such as promotional or training materials. These documents will inform the site visits and provide further information on D-SNAP planning and operations. The data collected will be kept private. It will not be shared with anyone outside the study team and FNS research and administrative staff.

Affected Public: (1) State, Local and Tribal Governments; (2) Business (For Profit and Not for Profit); and (3) Individuals/Households.

Respondent groups identified include the following:

1. State, Local, and Tribal Government: State SNAP directors, State D-SNAP policy leads, State emergency response managers in 5 study States; State information technology, civil rights, and communications staff in 5 study States; State database administrators in 5 study States; County SNAP directors, County D-SNAP policy leads, and County emergency response managers in 4 study counties across 2 study States; Local SNAP office staff in each of the 5 study States; we anticipate 100 percent participation from this affected public.

2. Business (For Profit and Not For Profit): Staff at stakeholder organizations, SNAP retailers such as grocery stores or community-based organizations.

3. Individuals: Former State or local staff who no longer work for the government.

Estimated Number of Respondents: The total estimated number of respondents is 233 (122 State, Local, and Tribal Government staff, 55 Business (For Profit and Not For Profit) staff, and 56 Individuals). Of the 233 contacted, 224 are estimated to be responsive and 9 are estimated to be nonresponsive. The breakout of respondents follows:

1. 126 State, Local, and Tribal Government staff: Of the 35 State SNAP staff contacted, 35 are estimated to be responsive; of the 16 County SNAP staff contacted, 16 are estimated to be responsive; of the 15 State database administrators contacted, 15 are estimated to be responsive; of the 70 Local office staff contacted, 70 are estimated to be responsive.

2. 55 Business (For Profit and Not For Profit) staff: Of the 55 Business stakeholder staff contacted, 50 are estimated to be responsive; and 5 will be non-responsive.

3. 56 Individuals: Of the 56 individuals contacted, 52 are estimated to be responsive and 4 will be non-responsive.

Estimated Number of Responses per Respondent: 1.00—based on 247 total annual responses (238 responsive and 9 nonresponsive) made by the 233 respondents (238 responsive and 9 nonresponsive). See table 1 for the estimated number of responses per respondent for each type of respondent.

The estimate breakout follows:

1. State SNAP Staff (30): The estimated number of responses per State SNAP staff is 1.00:

• 5 State SNAP directors will respond to advance materials and scheduling, including submission of D-SNAP documentation; the same 5 State SNAP directors plus 5 additional D-SNAP policy leads and 5 additional emergency response managers will take part in an in-person interview during the site visit. 5 State information technology staff, 5 State communications staff, and 5 State civil rights staff will take part in an in-person interview during the site visit.

2. County SNAP Staff (12): The estimated number of responses per County SNAP staff is 1.00:

• 4 County SNAP directors will respond to advance materials and scheduling, including submission of D-SNAP documentation; the same 4 County SNAP directors plus 4 additional D-SNAP policy leads and 4 additional emergency response managers will take part in an in-person interview during the site visit.

3. State SNAP Database Administrators (10): The estimated number of responses per State SNAP database administrator is 1.00:

• 5 State SNAP database administrators will respond to advance materials and scheduling; 5 State SNAP database junior staffers will submit a test datafile and the same 5 State SNAP database junior staffers will submit a final administrative datafile.

4. Local SNAP Office Staff (70): The estimated number of responses per Local SNAP office staff is 1.00:

• 10 Local SNAP office directors will respond to advance materials and scheduling, including submission of D-SNAP documentation; the same 10 Local SNAP office directors will take part in an in-person interview; 50 additional Local SNAP office staff will take part in a group discussion during the site visit; and an additional 10 Local SNAP office staff will take part in observations of the D-SNAP and disaster sites during the site visit.

5. Business (For Profit and Not for Profit) D-SNAP Stakeholder Staff (55): The estimated number of responses per Business stakeholder staff is 1.00:

• Of 30 Business D-SNAP stakeholder staff, 25 will respond to advance materials and scheduling, including submission of D-SNAP documentation (5 will not respond to advance materials and scheduling); 25 staff will take part in an in-person interview during the site visit, we anticipate these will be different responders.

6. Individuals (Former State/Local Government Officials no Longer Working in Government) (30): The estimated number of responses per Individual is 1.00:

• Of 10 Individuals who previously worked for the State government, 8 will respond to advance materials and scheduling (2 will not respond to the advance materials and scheduling); the 8 individuals who responded to the advance materials will take part in an interview.

• Of 20 Individuals who previously worked for the County/Local government, 18 will respond to advance materials and scheduling (2 will not respond to the advance materials and scheduling); the 18 individuals who responded to the advance materials will take part in an interview.

Estimated Total Frequency Response per Respondent: 1.0600858369. FNS anticipate on response per respondent although some State, Local or Tribal staff may participate in more than one (1) activity.

Estimated Total Annual Responses: 247 (238 annual responses for responsive participants and 9 annual responses for nonresponsive participants).

Estimated Time per Response: 1.90870445 hours (2.07 hours for responsive participants and 0.05 hours for nonresponsive participants). The estimated time of response varies from 0.05 hours to 10 hours depending on respondent group and activity, as shown in table 1.

Estimated Total Annual Burden on Respondents and Non-Respondents: 471.45 hours (471 hours for responsive participants, and 0.45 hours for nonresponsive participants). See table 1 for estimated total annual burden for each type of respondent.

Table 1—Total Public Burden Hours
Respondent category | Type of respondent | Instruments and activities | Sample size | Responsive: Number of respondents | Responsive: Frequency of response | Responsive: Total annual responses | Responsive: Hours per response | Responsive: Annual burden (hours) | Nonresponsive: Number of non- respondents | Nonresponsive: Frequency of response | Nonresponsive: Total annual responses | Nonresponsive: Hours per response | Nonresponsive: Annual burden (hours) | Grand total annual burden estimate (hours)
State, Local, and Tribal Government
State/local/tribal government subtotal | State SNAP Directors * (1 per State) | Advance materials and preparation, including all conference and scheduling calls, and submission of documents | 5 | 5 | 1 | 5 | 4 | 20 | 0 | 0 | 0 | 0 | 0 | 20
| State SNAP Directors * (1 per State); D-SNAP Policy Lead (1 per State), and Emergency Response Manager (1 per State) | In-person semi-structured interviews in 5 States | 15 | 15 | 1 | 15 | 3 | 45 | 0 | 0 | 0 | 0 | 0 | 45
| State information technology staff (1 per State), civil rights staff (1 per State), and communications staff (1 per State) | In-person semi-structured interviews in 5 States | 15 | 15 | 1 | 15 | 1 | 15 | 0 | 0 | 0 | 0 | 0 | 15
| Subtotal for State SNAP staff |  | 30 | 30 | 1.167 | 35 | 2.3 | 80 | 0 | 0 | 0 | 0 | 0 | 80
| County SNAP Directors *** (2 per State, in 2 States) | Advance materials and preparation, including all conference and scheduling calls, and submission of documents | 4 | 4 | 1 | 4 | 4 | 16 | 0 | 0 | 0 | 0 | 0 | 16
| County SNAP Directors (2 per State, in 2 States), D-SNAP policy lead (2 per State, in 2 States), and emergency response managers (2 per State, in 2 States) | In-person semi-structured interviews in 4 counties | 12 | 12 | 1 | 12 | 3 | 36 | 0 | 0 | 0 | 0 | 0 | 36
| Subtotal for county SNAP staff |  | 12 | 12 | 1 | 16 | 3 | 52 | 0 | 0 | 0 | 0 | 0 | 52
| State SNAP Database administrator (1 per State) | Advance materials and preparation, including consultative data call | 5 | 5 | 1 | 5 | 3 | 15 | 0 | 0 | 0 | 0 | 0 | 15
| State SNAP Database junior staffer (1 per State) | Submit test file and submit final file | 5 | 5 | 2 | 10 | 4 | 40 | 0 | 0 | 0 | 0 | 0 | 40
| Subtotal for State database administrator |  | 10 | 10 | 2 | 15 | 3.67 | 55 | 0 | 0 | 0 | 0 | 0 | 55
| Local SNAP Office Director ** (2 per State in 5 States) | Advance materials and preparation, including submission of documents | 10 | 10 | 1 | 10 | 2 | 20 | 0 | 0 | 0 | 0 | 0 | 20
| Local SNAP Office Director ** (the same 2 per State in 5 States that received and reviewed the advance materials) | In-person semi-structured interviews with 1 SNAP director/manager at 10 sites | 10 | 10 | 1 | 10 | 1 | 10 | 0 | 0 | 0 | 0 | 0 | 10
| Local SNAP Office staff (on average, 10 per State in 2 States) | Group discussion with 5 local staff at 10 sites | 50 | 50 | 1 | 50 | 2 | 100 | 0 | 0 | 0 | 0 | 0 | 100
| Local SNAP Office staff (2 per State in 5 States) | Observations of D-SNAP and disaster site with SNAP director/manager at 10 sites | 10 | 10 | 1 | 10 | 4 | 40 | 0 | 0 | 0 | 0 | 0 | 40
| Subtotal for local SNAP office |  | 70 | 70 | 1 | 70 | 2.43 | 170 | 0 | 0 | 0 | 0 | 0 | 170
State/local/tribal government subtotal | 122 | 122 | 1 | 136 | 2.63 | 357 | 0 | 0 | 0 | 0 | 0 | 357
Business
Business (for profit and not for profit) | D-SNAP stakeholder (3 per disaster) | Advance materials and preparation, including submission of documents | 30 | 25 | 1 | 25 | 2 | 50 | 5 | 1 | 5 | 0.05 | 0.25 | 50.25
| D-SNAP stakeholder (3 per disaster) | In-person semi-structured interviews with 1 staff member at 25 stakeholder offices | 25 | 25 | 1 | 25 | 1 | 25 | 0 | 0 | 0 | 0 | 0 | 25
Business subtotal | 55 | 50 | 1 | 50 | 2 | 75 | 5 | 1 | 5 | 0.05 | 0.25 | 75.25
Individuals
Individuals | Former State office D-SNAP staff (1 per disaster) | Advance letter and other recruitment | 10 | 8 | 1 | 8 | 0.5 | 4 | 2 | 1 | 2 | 0.05 | 0.1 | 4.1
| Former State office D-SNAP staff (8 from among those receiving the advance letter) | In-person semi-structured interview | 8 | 8 | 1 | 8 | 1 | 8 | 0 | 0 | 0 | 0 | 0 | 8
| Former local office D-SNAP staff (2 per disaster) | Advance letter and other recruitment | 20 | 18 | 1 | 18 | 0.5 | 9 | 2 | 1 | 2 | 0.05 | 0.1 | 9.1
| Former local office D-SNAP staff (8 from among those receiving the advance letters) | In-person semi-structured interview | 18 | 18 | 1 | 18 | 1 | 18 | 0 | 0 | 0 | 0 | 0 | 18
Individuals subtotal | 56 | 52 | 1 | 52 | 0.75 | 39 | 4 | 1 | 4 | 0.05 | 0.2 | 39.2
Total | 233 | 224 | 1.062500 | 238 | 1.98 | 471 | 9 | 1 | 9 | 0.05 | 0.45 | 471.45
* The unique 5 State SNAP Directors respondents are counted once although they participated in multiple activities.
** The unique 10 Local SNAP Office Directors are counted once although they participated in multiple activities.
*** The unique 4 Count SNAP Directors are counted once although they participated in multiple activities.

Pamilyn Miller,
Administrator, Food and Nutrition Service.

[FR Doc. 2020-15218 Filed 7-14-20; 8:45 am]

BILLING CODE 3410-30-P